DEPARTMENT OF LABOR

Occupational Safety and Health Administration

[Docket No. ICR 1218-0198(2004)]

Logging Operations Standard; Extension of the Office of Management and Budget's (OMB) Approval of Information Collection (Paperwork) Requirements

AGENCY: Occupational Safety and Health Administration (OSHA), Labor.

ACTION:

Request for comment.

SUMMARY: OSHA solicits comments concerning its proposal to extend OMB approval of the Information Collection requirements contained in the Logging Operations Standard (29 CFR 1910.266). The purpose of these requirements is to establish safety practices, means, methods and operations for employees engaged in logging activities.

DATES: Comments must be submitted by the following dates:

Hard copy: Your comments must be submitted (postmarked or received) by September 27, 2004.

Facsimile and electronic transmission: Your comments must be received by September 27, 2004.

ADDRESSES: You may submit comments, identified by OSHA Docket No. ICR-1218-0198(2004), by any of the following methods:

Regular mail, express delivery, hand delivery, and messenger service: Submit your comments and attachments to the OSHA Docket Office, Room N-2625, U.S. Department of Labor, 200 Constitution Ave., NW., Washington, DC 20210; telephone (202) 639-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov.

Docket: For access to the docket to read or download comments or background materials, such as the complete Information Collection Request (ICR) (containing the Supporting Statement, OMB-83-I Form, and attachments), go the OSHA's Web page at http://OSHA.gov. In addition, comments, submissions and the ICR are available for inspection and copying at the OSHA Docket Office at the address above. You may also contact Theda Kenney at the address below to obtain a copy of the ICR.

(For additional information on submitting comments, please see the “Public Participation” heading in the SUPPLEMENTARY INFORMATION section of this document.)

FOR FURTHER INFORMATION CONTACT: Theda Kenney, Directorate of Standards and Guidance, OSHA, Room N-3609, U.S. Department of Labor, 200 Constitution Avenue, NW., Washington, DC 20210; telephone (202) 693-2222.

SUPPLEMENTARY INFORMATION:

Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A)).

This program ensures that information is in the desired format, reporting burden (time and costs) is minimal, collection instruments are clearly understood, and OSHA's estimate of the information collection burden is accurate. The Occupational Safety and Health Act of 1970 (the Act) (29 U.S.C. 651 et seq.) authorizes information collection by employers as necessary or appropriate for enforcement of the Act or for developing information regarding the causes and prevention of occupational injuries, illnesses, and accidents (29 U.S.C. 657).

The Logging Operations Standard (the Standard) (29 CFR 1910.266) specifies several paperwork requirements. The following sections describe what information is collected under each requirement, who uses the information, and how they use it

Paragraph (f)(1)(iii) of the Standard requires the employer to assure that operating and maintenance instructions are available on machines or in the area where the machine is being operated. Similarly, paragraph (g)(3) requires the employer to assure that operating and maintenance instructions are available in each vehicle.

Paragraph (i)(1) of the Standard requires employers to provide training for each employee, including supervisors. To meet this requirement, employers must conduct the training at the frequencies specified by paragraph (i)(2). Paragraph (i)(3) specifies that employee/supervisor training, at a minimum, must consist of the following elements: Safe work practices, including the use, operation, and maintenance of tools, machines, and vehicles they use and procedures, practices, and requirements of the employer's worksite; recognition and control of health, and safety hazards associated with the employee's/supervisor's specific work tasks and logging operations in general; and the requirements of the Standard.

Paragraph (i)(10)(i) specifies that employers must certify that employees/supervisors have received the required training. This certification must be in writing and provide the following information: The name/identifier of the employee/supervisor; the date(s) of the training; and either the signature of the employer or the individual who conducted the training. Paragraph (i)(10)(ii) requires employers to maintain the most recent certification for training completed by an employee/supervisor.

Training employees/supervisors in safe work practices and to recognize and control the safety and health hazards associated with their work tasks and overall logging operations enables them to prevent serious accidents by using specific procedures and equipment in a safe manner to avoid or to control dangerous exposures to these hazards.

Establishing and maintaining written certification of the training each employee/supervisor receives assures the employer that they receive the training specified by the Standard, and at the required frequencies. With regard to first aid training, the certification assures that the employee's/supervisor's certificate is currently valid. In addition, these records provide the most efficient means for an OSHA compliance officer to determine whether an employer performed the required training at the necessary and appropriate frequencies.

II. Special Issues for Comment

OSHA has a particular interest in comments on the following issues:

• Whether the proposed information collection requirements are necessary for the proper performance of the Agency's functions, including whether the information is useful;

• The accuracy of OSHA's estimate of the burden (time and costs) of the information-collection requirements, including the validity of the methodology and assumptions used;

• The quality, utility, and clarity of the information collected; and

• Ways to minimize the burden on employers who must comply; for example, by using automated or other technological information collection and transmission techniques.

III. Proposed Action

OSHA is proposing to extend the information collection requirements in the Logging Operations Standard. The Agency will summarize the comments submitted in response to this notice, and will include this summary in its request to OMB to extend the approval of these information collection requirements.

Type of Review: Extension of currently approved information collection requirements.

Title: Logging Operations Standard (29 CFR 1910.266).

OMB Number: 1218-0198.

Affected Public: Business or other for-profit; not-for-profit institutions; Federal government; State, local, or tribal governments.

Number of Respondents: 12,098.

Frequency of Recordkeeping: Initially; on occasion.

Average Time per Response: Varies from 1 minute (.02 hour) to maintain training certification records to 3 hours to conduct initial training.

Total Annual Hours Requested:21, 599.

Estimated Cost (Operation and Maintenance): $0.

IV. Public Participation—Submission of Comments on This Notice and Internet Access to Comments and Submissions

You may submit comments and supporting materials in response to this notice by (1) hard copy, (2) fax transmission (facsimile), or (3) electronically through the OSHA Web page. Because of security related problems there may be significant delay in the receipt of comments by regular mail. Please contact the OSHA Docket Office at (200) 2693-2350 (TTY (877) 889-5627 (for information about security procedures concerning the delivery of submissions by express delivery, hand delivery and courier service.

All comments, submissions and background documents are available for inspection and copying at the OSHA Docket Office at the above address. Comments and submissions posted on OSHA's Web page are available at http://www.OSHA.gov. Contact the OSHA Docket Office for information about materials not available through the OSHA Web page and for assistance using the Web page to locate docket submissions.

Electronic copies of this Federal Register notice as well as other relevant documents are available at OSHA's Web page.

V. Authority and Signature

John L. Henshaw, Assistant of Labor for Occupational Safety and Health, directed the preparation of this notice. The authority for this notice is the Paperwork Reduction Act of 1995 (44 U.S.C. 3506 et seq.), and of Labor's Order No. 5-2002 (67 FR 65008).

Signed at Washington, DC, on July 22, 2004.
John L. Henshaw,
Assistant Secretary of Labor.

[FR Doc. 04-17175 Filed 7-27-04; 8:45 am]

BILLING CODE 4510-26-M